ENVIRONMENTAL PROTECTION AGENCY

40 CFR Part 52

[MN68-01b; FRL-6991-8]

Approval and Promulgation of Implementation Plans; Minnesota

AGENCY: Environmental Protection Agency (EPA).

ACTION: Proposed rule.

SUMMARY: We are proposing to approve a State Implementation Plan (SIP) revision for Dakota County, Minnesota, for the control of emissions of sulfur dioxide (SO2) in the Pine Bend Area of Rosemount. The site-specific SIP revision for Koch Petroleum Group, LP (Koch) was submitted by the Minnesota Pollution Control Agency on December 20, 2000, and is approvable because it satisfies the requirements of the Clean Air Act. Specifically, EPA is proposing to approve into the SO2 SIP Amendment No. 4 to the Administrative Order for Koch. In the final rules section of this Federal Register, we are approving the SIP revision as a direct final rule without prior proposal, because we view this as a noncontroversial revision amendment and anticipate no adverse comments. A detailed rationale for the approval is set forth in the direct final rule. If no adverse comments are received in response to this proposed rule, no further activity is contemplated in relation to this proposed rule. If we receive adverse comments, the direct final rule will be withdrawn and all public comments received will be addressed in a subsequent final rule based on this proposed rule. We will not institute a second comment period on this action. Any parties interested in commenting on this action should do so at this time.

DATES: Written comments must be received on or before July 12, 2001.

ADDRESSES: Written comments should be sent to: Canton T. Nash, Chief, Regulation Development Section, Air Programs Branch (AR-18J), EPA Region 5, 77 West Jackson Boulevard, Chicago, Illinois 60604-3590.

FOR FURTHER INFORMATION CONTACT: Christos Panos, Regulation Development Section, Air Programs Branch (AR-18J), EPA Region 5, 77 West Jackson Boulevard, Chicago, Illinois 60604, (312) 353-8328.

SUPPLEMENTARY INFORMATION: For additional information, see the Direct Final rule document which is located in the Rules section of this Federal Register. Copies of the request and the EPA's analysis are available for inspection at the above address. (Please telephone Christos Panos at (312) 353-8328 before visiting the Region 5 Office.)

Dated: May 8, 2001.
Norman Niedergang,
Acting Regional Administrator, Region 5.

[FR Doc. 01-14615 Filed 6-11-01; 8:45 am]

BILLING CODE 6560-50-P